FEDERAL MARITIME COMMISSION

Ocean Transportation Intermediary License; Applicants

Notice is hereby given that the following applicants have filed with the Federal Maritime Commission an application for a license as a Non-Vessel-Operating Common Carrier (NVO) and/or Ocean Freight Forwarder (OFF)—Ocean Transportation Intermediary (OTI) pursuant to section 19 of the Shipping Act of 1984 as amended (46 U.S.C. Chapter 409 and 46 CFR 515). Notice is also hereby given of the filing of applications to amend an existing OTI license or the Qualifying Individual (QI) for a license.

Interested persons may contact the Office of Transportation Intermediaries, Federal Maritime Commission, Washington, DC 20573.

A. C. Global, LLC (OFF & NVO), 70 Grand Avenue, River Edge, NJ 07661. Sophie Persits, President (Qualifying Individual). Application Type: License Transfer.

ALG Global Logistics Inc. (OFF & NVO), 400 Continental Blvd.—6th Floor, El Segundo, CA 90245. Lorrie Vidal, CEO (Qualifying Individual). Application Type: New OFF & NVO.

Alisped U.S.A. Inc. (NVO), 147-55 175th Street—Suite 108, Jamaica, NY 11434. Lorenzo Giusti, Treasurer (Qualifying Individual), Adriano Cerretelli, Owner. Application Type: QI Change.

All West Coast Shipping Inc. dba West Coast Shipping (NVO) 1065 Broadway Avenue, San Pablo, CA 94806. Aleksandr Naumov, Vice President & COO (Qualifying Individual), Andrey Naumov, President & Secretary. Application Type: QI Change.

Arlette P. Porras dba RA International (OFF & NVO), 1900 Los Alamitos Drive, Placentia, CA 92870. Arlette P. Porras, Sole Proprietor (Qualifying Individual). Application Type: New OFF and NVO License.

Delmar International (N.Y.) Inc. (OFF & NVO), 147-55 175th Street, Jamaica, NY 11434. Officers: Ricky Kam Sing Ho, Vice President (Qualifying Individual), Harrison Cutler, Chairman. Application Type: QI Change.

Demanko HLC Logistics, Inc. (NVO), 3 Melvin Street, Wakefield, MA 01880. Kevin F. O'Donnell, Vice President (Qualifying Individual), Oscar DeVlaminck, President. Application Type: New NVO License.

India Maritime Agency LLC (NVO), 25 E. Spring Valley Avenue—Suite 100, Maywood, NJ 07607. Joseph Monaghan, President/CEO (Qualifying Individual). Application Type: New NVO License.

Montgomery International, Inc. (OFF), 341 Ericson Ave.—P.O. Box 124, Essington, PA 19029. Ari M. Bobrow, Export Manager (Qualifying Individual), Jimmy Montgomery, President. Application Type: New OFF License.

Seamaster Logistics, Inc. (NVO), 800 Federal Blvd., Carteret, NJ 07008. Myles O'Brien, President & CEO, (Qualifying Individual) Robert Agresti, CFO & Treasurer. Application Type: QI Change.

Sooner Solutions LLC (OFF), 33200 E. Lake Holm Drive SE., Auburn, WA 98092. Jean F. Keller, Member (Qualifying Individual). Application Type: New OFF License.

Supreme International Ltd. (OFF), 9204 South Commercial Avenue—Suite 209, Chicago, IL 60617. Bosun A. Dominic, President & CEO (Qualifying Individual). Application Type: New OFF License.

Dated: June 25, 2010.
Karen V. Gregory,
Secretary.

[FR Doc. 2010-15946 Filed 6-29-10; 8:45 am]

BILLING CODE 6730-01-P